POSTAL REGULATORY COMMISSION

[Docket No. CP2020-176; Order No. 5549]

Inbound Parcel Post (at UPU Rates)

AGENCY: Postal Regulatory Commission.

ACTION: Notice.

SUMMARY: The Commission is acknowledging a recent Postal Service filing of a change in rates not of general applicability to be effective July 1, 2020. This document informs the public of the filing, invites public comment, and takes other administrative steps.

DATES: Comments are due: June 22, 2020.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Contents of Filing

III. Administrative Actions

IV. Ordering Paragraphs

I. Introduction

On June 12, 2020, the Postal Service filed a notice with the Commission of a change in rates not of general applicability for Inbound Parcel Post at Universal Postal Union (UPU) rates, pursuant to 39 CFR 3035.105. The Postal Service intends for the proposed prices to take effect on July 1, 2020. Notice at 1.

II. Contents of Filing

In support of the Notice, the Postal Service filed an application for non-public treatment (Attachment 1), a redacted version of the UPU International Bureau (IB) circular that provides the negotiated rates (Attachment 2), a copy of the certification required under 39 CFR 3035.105(c)(2) (Attachment 3), a redacted Postal Service data used by the UPU to justify any bonus payments (Attachment 4), and a redacted copy of Governors' Decision No. 19-1 (Attachment 5). The Postal Service also filed supporting financial workpapers under seal. Id. at 2-3.

The Postal Service asserts that the proposed prices comply with 39 U.S.C. 3633(a) and 39 CFR 3035.107. Id. at 5-6. Furthermore, the Postal Service states that it has provided supporting documentation, as required by Order Nos. 2102 and 2310.¹ In addition, the Postal Service states that it provided citations and a copy of the relevant UPU IB circular, as required by prior Commission orders.²

¹ Id. at 4-5. See Docket No. CP2014-52, Order Accepting Price Changes for Inbound Air Parcel Post (at UPU Rates), June 26, 2014, at 6 (Order No. 2102); Docket No. CP2015-24, Order Accepting Changes in Rates for Inbound Parcel Post (at UPU Rates), December 29, 2014, at 4 (Order No. 2310).

² Notice at 5. See e.g., Docket No. CP-2019-43, Order Acknowledging Changes in Prices for Inbound Parcel Post (at UPU Rates), December 19, 2018 (Order No. 4933).

III. Administrative Actions

The Commission establishes Docket No. CP2020-176 for consideration of matters raised by the Notice and appoints Katalin K. Clendenin to serve as Public Representative in this docket. The Commission invites comments on whether the Postal Service's filing is consistent with 39 U.S.C. 3632, 3633, and 39 CFR part 3035. Comments are due no later than June 22, 2020. The public portions of the filing can be accessed via the Commission's website (http://www.prc.gov).

IV. Ordering Paragraphs

It is ordered:

1. The Commission establishes Docket No. CP2020-176 for consideration of the matters raised by the Postal Service's Notice.

2. Comments are due no later than June 22, 2020.

3. Pursuant to 39 U.S.C. 505, Katalin K. Clendenin will serve as an officer of the Commission (Public Representative) to represent the interests of the general public in these dockets.

4. The Secretary shall arrange for publication of this order in the Federal Register.

By the Commission.
Erica A. Barker,
Secretary.

[FR Doc. 2020-13187 Filed 6-18-20; 8:45 am]

BILLING CODE 7710-FW-P